DEPARTMENT OF HOMELAND SECURITY

Coast Guard

[USCG-2007-0008]

Collection of Information Under Review by Office of Management and Budget: OMB Control Number: 1625-0003

AGENCY: Coast Guard, DHS.

ACTION: Sixty-day notice requesting comments.

SUMMARY: In compliance with the Paperwork Reduction Act of 1995, the U.S. Coast Guard intends to submit an Information Collection Request (ICR) to the Office of Management and Budget (OMB) requesting a revision of their approval for the following collection of information: 1625-0003, Coast Guard Boating Accident Report Form (CG-3865). Before submitting this ICR to OMB, the Coast Guard is inviting comments as described below.

DATES: Comments must reach the Coast Guard on or before December 17, 2007.

ADDRESSES: To make sure your comments and related material do not enter the docket [USCG-2007-0008] more than once, please submit them by only one of the following means:

(1) Online: http://www.regulations.gov.

(2) Mail or Hand deliver to: Docket Management Facility (M-30), U.S. Department of Transportation, West Building Ground Floor, Room W12-140, 1200 New Jersey Avenue, SE., Washington, DC 20590-0001. Hand deliver between the hours of 9 a.m. and 5 p.m., Monday through Friday, except Federal holidays. The telephone number is 202-366-9329.

(3) Fax to: Docket Management Facility: 202-493-2251.

The Docket Management Facility maintains the public docket for this notice. Comments and material received from the public, as well as documents mentioned in this notice as being available in the docket, will become part of this docket and will be available for inspection or copying at room W12-140 on the West Building Ground Floor, 1200 New Jersey Avenue, SE., Washington, DC, between 9 a.m. and 5 p.m., Monday through Friday, except Federal holidays. You may also find this docket on the Internet at http://www.regulations.gov.

A copy of the complete ICR is available through this docket on the Internet at http://www.regulations.gov. Additionally, copies are available from Commandant (CG-611), U.S. Coast Guard Headquarters, (Attn: Mr. Arthur Requina), 2100 2nd Street, SW., Washington, DC 20593-0001. The telephone number is 202-475-3523.

FOR FURTHER INFORMATION CONTACT: Mr. Arthur Requina, Office of Information Management, telephone 202-475-3523, or fax 202-475-3929, for questions on these documents. Contact Ms. Renee V. Wright, Program Manager, Docket Operations, 202-366-9826, for questions on the docket.

SUPPLEMENTARY INFORMATION:

Public Participation and Request for Comments

We encourage you to respond to this request by submitting comments and related materials. We will post all comments received, without change, to http://www.regulations.gov. They will include any personal information you provide. We have an agreement with DOT to use their Docket Management Facility. Please see the paragraph on DOT's “Privacy Act Policy” below.

Submitting comments: If you submit a comment, please include the docket number for this request [USCG-2007-0008], indicate the specific section of the document to which each comment applies, providing a reason for each comment. We recommend you include your name, mailing address, and an e-mail address or other contact information in the body of your document to ensure that you can be identified as the submitter. This also allows us to contact you in the event further information is needed or if there are questions. For example, if we cannot read your submission. You may submit your comments and material by electronic means, mail, fax, or delivery to the Docket Management Facility at the address under ADDRESSES; but please submit them by only one means. If you submit them by mail or delivery, submit them in an unbound format, no larger than 8-½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: Go to http://www.regulations.gov to view documents mentioned in this notice as being available in the docket. Click on “Search for Dockets,” and enter the docket number for this notice (USCG-2007-0008) in the Docket ID box, and click enter. You may also visit the Docket Management Facility in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://DocketsInfo.dot.gov.

Information Collection Request

1. Title: Coast Guard Boating Accident Report Form (CG-3865).

OMB Control Number: 1625-0003.

Summary: Title 46 U.S.C. 6102(b) requires the Secretary to collect, analyze and publish reports, information, and statistics on marine casualties. The Coast Guard Boating Accident Report Form (CG-3865) is the data collection instrument that enables the Coast Guard to comply with this mandate.

Need: Title 46 U.S.C. 6102(a) requires a uniform marine casualty reporting system with regulations prescribing casualties to be reported, and the manner thereof. The statute requires a State to compile and submit to the Secretary (delegated to the Coast Guard) reports, information, and statistics on casualties reported. Implementing regulations are contained in 33 CFR part 173—Vessel Numbering and Casualty and Accident Reporting; subpart C—Casualty and Accident Reporting, and 33 CFR part 174—State Numbering and Casualty Reporting Systems; subpart C—Casualty Reporting System Requirements; and subpart D—State reports.

States are required to forward copies of the reports or electronically transmit accident report data to the Coast Guard within 30 days of receipt of the report as prescribed in 33 CFR 174.121. The accident report data and statistical information obtained from the reports submitted by the State reporting authorities are used by the Coast Guard in the compilation of national recreational boating accident statistics.

Respondents: Operators of vessels or vessel equipment involved in occurrences where—

• A person dies or is injured and requires medical treatment beyond first aid,

• The vessel incurs damage or other property incurs damages of $2,000 or more, or

• A person disappears from the vessel under circumstances indicating death or injury, and reporting authorities. See §§ 173.57 and 173.59.

Frequency: On occasion.

Burden Estimate: The estimated burden remains 2,500 hours a year.

Dated: October 11, 2007.
D.T. Glenn,
Rear Admiral, U.S. Coast Guard, Assistant Commandant for Command, Control, Communications, Computers and Information Technology.

[FR Doc. E7-20607 Filed 10-17-07; 8:45 am]

BILLING CODE 4910-15-P